DEPARTMENT OF ENERGY

Federal Energy Regulatory Commission

Notice of Application for Amendment of License and Soliciting Comments, Motions To Intervene, and Protests

January 23, 2002.

Take notice that the following application has been filed with the Commission and is available for public inspection:

a. Application Type: Amendment of License to delete license article 404.

b. Project No: 6939-107.

c. Date Filed: December 3, 2001.

d. Applicant: City of Jackson, Ohio and certain Ohio Municipalities.

e. Name of Project: Belleville Hydroelectric Project.

f. Location: The project is located on the Ohio River in Wood County, West Virgina.

g. Filed Pursuant to: Federal Power Act, 16 USC 791 (a) 825(r) and 799 and 801.

h. Applicant Contact: Marc S. Gerken, President, American Municipal Power-Ohio, Inc., 2600 Airport Drive, Columbus, Ohio 43219, (614) 337-6222.

i. FERC Contact: Any questions on this notice should be addressed to Mr. Thomas LoVullo at (202) 219-1168, or e-mail address: thomas.lovullo@ferc.gov.

j. Deadline for filing comments, motions to intervene and protest: February 24, 2002.

All documents (an original and eight copies) should be filed with: Linwood A. Watson, Jr., Acting Secretary, Federal Energy Regulatory Commission, 888 First Street, NE, Washington, DC 20426. Please include the project number (P-6939-107) on any comments or motions filed.

k. Description of Request: The City of Jackson requests that the remaining prospective requirements of license article 404, in particular the performance of a fish mortality study and the possible provision of compensatory mitigation, be deleted from the license. The City of Jackson stated that it submitted its request due to significantly changed circumstances including the non-construction of numerous projects in the Upper Ohio River Basin, and a substantial change in the Federal Energy Regulatory Commission's policy regarding fish studies and compensation since the license was issued in 1989.

l. Locations of the Application: A copy of the application is available for inspection and reproduction at the Commission's Public Reference Room, located at 888 First Street, NE, Room 2A, Washington, DC 20426, or by calling (202) 208-1371. This filing may also be viewed on the Web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Linwood A. Watson, Jr.,
Acting Secretary.

[FR Doc. 02-2101 Filed 1-28-02; 8:45 am]

BILLING CODE 6717-01-P